DEPARTMENT OF HEALTH AND HUMAN SERVICES

Substance Abuse and Mental Health Services Administration

Fiscal Year (FY) 2011 Funding Opportunity

AGENCY: Substance Abuse and Mental Health Services Administration, HHS.

ACTION: Notice of intent to award a Single Source Grant to the Education Development Resource Center, Inc., Newton, Massachusetts.

SUMMARY: This notice is to inform the public that the Substance Abuse and Mental Health Services Administration (SAMHSA) intends to award approximately $1,000,000 (total costs) per year for up to one year to the Education Development Resource Center, Inc. Newton, Massachusetts. This is not a formal request for applications. Assistance will be provided only to the Education Development Resource Center, Inc. based on the receipt of a satisfactory application that is approved by an independent review group.

Funding Opportunity Title: SM-11-014.

Catalog Of Federal Domestic Assistance (CFDA) Number: 93.243.

Authority: Section 520C of the Public Health Service Act, as amended.

Justification: The purpose of this one-year supplement to the SPRC is to expand and enhance the level of support provided to the National Action Alliance for Suicide Prevention (Action Alliance). This supplement will expand future organizational development, partnerships, and collaborations to support the implementation of the National Strategy for Suicide Prevention (NSSP).

This 1-year funding supports the SPRC and the goals and objectives of the Action Alliance by providing the infrastructure supports to update and advance the NSSP. This will further support national investment in prevention and public health.

Since 2002, the SPRC has provided prevention support, training, and resources to assist organizations and individuals to develop suicide prevention programs, interventions, and policies, to further the work of the Action Alliance and to advance the NSSP. The Action Alliance was launched in September 2010 by Secretary Kathleen Sebelius and Secretary Robert Gates as an innovative public private partnership established to improve public and professional awareness of suicide as a preventable public health problem and to enhance the capacities and capabilities of communities to promote prevention and resilience.

Funding for the SPRC and for this program supplement are components of the Garrett Lee Smith Memorial Act, most recently included in the 2008 Omnibus Appropriations Act. Congress authorized funding for only one Suicide Prevention Resource Center; therefore the program supplement must be awarded to the grantee that manages the SPRC, specifically to Education Development Center, Inc., Newton, Massachusetts. There are no other sources with the available resources and expertise to successfully complete the tasks of this proposal. Further, it would be both inefficient and wasteful to fund a second technical assistance provider for the same group of grantees.

FOR FURTHER INFORMATION CONTACT: Shelly Hara, Substance Abuse and Mental Health Services Administration, 1 Choke Cherry Road, Room 8-1095, Rockville, MD 20857; telephone: (240) 276-2321; E-mail: shelly.hara@samhsa.hhs.gov.

Janine D Cook,
SAMHSA.

[FR Doc. 2011-18670 Filed 7-22-11; 8:45 am]

BILLING CODE 4162-20-P